RAILROAD RETIREMENT BOARD

Sunshine Act Meeting; Notice of Cancellation of Public Meeting

The meeting of the Railroad Retirement Board which was to be held on October 6, 2011, 10 a.m. at the Board's meeting room on the 8th floor of its headquarters building, 844 North Rush Street, Chicago, Illinois 60611 has been cancelled.

The person to contact for more information is Martha P. Rico, Secretary to the Board, Phone No. 312-751-4920.

Dated: October 3, 2011.
Martha P. Rico,
Secretary to the Board.

[FR Doc. 2011-25979 Filed 10-4-11; 11:15 am]

BILLING CODE 7905-01-P